SECURITIES AND EXCHANGE COMMISSION

[OMB Control No. 3235-0070]

Proposed Collection; Comment Request; Extension: Exchange Act Form 10-Q

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form 10-Q (17 CFR 249.308a) is filed by issuers to satisfy their quarterly reporting obligations pursuant to Section 13 or 15(d) of the Securities Exchange Act of 1934 (15 U.S.C. 78m or 78o(d)). The information provided by Form 10-Q is intended to ensure the adequacy of information available to investors about an issuer. We estimate that Form 10-Q takes approximately 180.18 hours per response to prepare and is filed three times per year by approximately 6,473 respondents, for a total of approximately 19,419 Form 10-Q filings per year. We estimate that 75% of the approximately 180.18 hours per response (135.135 hours) is prepared by the issuer for an annual reporting burden of 2,624,187 hours (135.135 hours per response × 19,419 responses). We estimate that 25% of the approximately 180.18 hours per response (45.045 hours) is carried by outside professionals retained by the issuer to assist in the preparation of the form, at an estimated cost of $600 per hour, for a total annual cost burden of $524,837,313 (45.045 hours per response × $600 per hour × 19,419 responses annually).

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication by July 14, 2025.

An agency may not conduct or sponsor, and a person is not required to respond to, a collection of information unless it displays a currently valid OMB control number.

Please direct your written comment to Austin Gerig, Director/Chief Data Officer, Securities and Exchange Commission, c/o Tanya Ruttenberg, 100 F Street NE, Washington, DC 20549 or send an email to: PaperworkReductionAct@sec.gov.

Dated: May 8, 2025.
Sherry R. Haywood,
Assistant Secretary.

[FR Doc. 2025-08447 Filed 5-13-25; 8:45 am]

BILLING CODE 8011-01-P